DEPARTMENT OF HEALTH AND HUMAN SERVICES

Administration for Children and Families

Proposed Information Collection Activity; Child Support Portal Registration (Office of Management and Budget #: 0970-0370)

AGENCY: Office of Child Support Services, Administration for Children and Families, U.S. Department of Health and Human Services.

ACTION: Request for Public Comments.

SUMMARY: The Office of Child Support Services (OCSS), Administration for Children and Families (ACF), is requesting the federal Office of Management and Budget (OMB) approve the “Child Support Portal Registration,” with minor revisions, for an additional three years. The OCSS Child Support Portal (“Portal”) contains applications to help state child support agencies administer their programs. Authorized Portal users must register with OCSS to access Portal applications and provide OCSS with certain Portal application preferences. The current OMB approval expires on February 28, 2025.

DATES: Comments due September 16, 2024. In compliance with the requirements of the Paperwork Reduction Act of 1995, ACF is soliciting public comment on the specific aspects of the information collection described above.

ADDRESSES: Copies of the proposed collection of information can be obtained and comments may be forwarded by emailing infocollection@acf.hhs.gov. Identify all requests by the title of the information collection.

SUPPLEMENTARY INFORMATION:

Description: The OCSS Division of Federal Systems (DFS) maintains the Portal, which contains various applications through which authorized users may view, update, upload, or download information for child support purposes. Authorized users must register to access the Portal. The DFS Portal team authenticates registrants and then creates secure profiles for authorized users for employers, insurers, and financial institutions based on information provided in the Employer Services and Insurance Match Debt Inquiry Portal Agreement and Profile forms. Information provided in the electronic National Medical Support Notice (e-NMSN), the electronic Incoming Withholding Order (e-IWO), and Federally Assisted State Transmitted (FAST) Levy Financial Institution Profile form gives DFS the necessary information to set up the respective program user's process and capture preferences. The information OCSS collects for the Portal registration and profiles remains the same but they underwent minor clarification revisions and edits to update “Office of Child Support Enforcement (OCSE)” to “Office of Child Support Services (OCSS).”

State child support agencies manage and authenticate authorization for individual users via the state proxy server; therefore, a Portal Registration form is not required. State users must, however, provide DFS with their respective Portal preferences.

Respondents: Employers, Financial Institutions, Insurers, and State Child Support Agencies.

Annual Burden Estimates
Information collection instrument | Total annual estimated number of respondents | Total annual number of responses per respondent | Average burden hours per response | Total annual burden hours
Portal Registration Screens | 52,284 | 1 | 0.15 | 7,842.60
Employer Services Agreement and Profile | 20,040 | 1 | 0.08 | 1,603.20
Insurance Match Debt Inquiry Agreement and Profile | 6 | 1 | 0.08 | 0.48
e-NMSN: Plan Administrator Profile | 0 | 0 | 0.22 | 0.00
e-NMSN: Employer Profile | 20 | 1 | 0.22 | 4.40
e-NMSN: State Profile | 4 | 1 | 0.22 | 0.88
e-IWO Employer/Payroll Provider Profile | 117 | 1 | 0.08 | 9.36
FAST Levy Financial Institution Profile | 2 | 1 | 0.08 | 0.16

Estimated Total Annual Burden Hours: 9,461.08.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 653(m)(2) and 44 U.S.C. 3554.

Mary C. Jones,
ACF/OPRE Certifying Officer.

[FR Doc. 2024-15692 Filed 7-16-24; 8:45 am]

BILLING CODE 4184-41-P